DEPARTMENT OF COMMERCE

International Trade Administration

[A-570-918]

Steel Wire Garment Hangers From the People's Republic of China: Final Results and Final Partial Rescission of Second Antidumping Duty Administrative Review

AGENCY: Import Administration, International Trade Administration, Department of Commerce

SUMMARY: On October 28, 2011, the Department of Commerce (“Department”) published in the Federal Register the preliminary results of the second administrative review of the antidumping duty order ¹ on steel wire garment hangers from the People's Republic of China (“PRC”).² We gave interested parties an opportunity to comment on the Preliminary Results. Based upon our analysis of the comments and information received, we made changes to the margin calculations for the final results. We continue to find that certain exporters have sold subject merchandise at less than normal value during the period of review (“POR”), October 1, 2009, through September 30, 2010.

¹ See Notice of Antidumping Duty Order: Steel Wire Garment Hangers From the People's Republic of China, 73 FR 58111 (October 6, 2008).

² See Steel Wire Garment Hangers From the People's Republic of China: Preliminary Results and Preliminary Rescission, in Part, of the Second Antidumping Duty Administrative Review, 76 FR 66903 (October 28, 2011) (“Preliminary Results”).

DATES: Effective Date: March 1, 2012.

FOR FURTHER INFORMATION CONTACT: Bob Palmer, AD/CVD Operations, Office 9, Import Administration, International Trade Administration, U.S. Department of Commerce, 14th Street and Constitution Avenue NW., Washington, DC 20230; telephone: (202) 482-9068.

SUPPLEMENTARY INFORMATION:

Background

On October 28, 2011, the Department published in the Federal Register the Preliminary Results of this administrative review. On November 17, 2011, Fabriclean Supply Inc. (“Fabriclean”), a U.S. importer, submitted additional surrogate value (“SV”) information.

On November 28, 2011, Petitioner,³ Shanghai Wells Hanger Co., Ltd.⁴ (“Shanghai Wells”), and Fabriclean filed case briefs. On December 5, 2011, Petitioner filed a rebuttal brief. The Department did not hold a public hearing pursuant to 19 CFR 351.310(d), as no interested party requested one.

³ M&B Metal Products Co., Inc. (“Petitioner”).

⁴ In the first administrative review, the Department found that Shanghai Wells, Hong Kong Wells Limited (“HK Wells”) and Hong Kong Wells Limited (USA) (“USA Wells”) (collectively, “Wells Group”) are affiliated and that Shanghai Wells and HK Wells comprise a single entity. Because there were no changes from the previous review, we continue to find Shanghai Wells, HK Wells, and USA Wells are affiliated and that Shanghai Wells and HK Wells comprise a single entity. See Steel Wire Garment Hangers From the People's Republic of China: Preliminary Results and Preliminary Rescission, in Part, of the First Antidumping Duty Administrative Review, 75 FR 68758, 68761 (November 9, 2010), unchanged in First Administrative Review of Steel Wire Garment Hangers From the People's Republic of China: Final Results and Final Partial Rescission of Antidumping Duty Administrative Review, 76 FR 27994, 27996 (May 13, 2011) (“AR 1 Hangers”).

Analysis of Comments Received

All issues raised in the case and rebuttal briefs by parties to this review are addressed in the “Steel Wire Garment Hangers from the People's Republic of China: Issues and Decision Memorandum for the Final Results of the Second Antidumping Duty Administrative Review,” which is dated concurrently with this notice (“Decision Memo”). A list of the issues which parties raised and to which we respond in the Decision Memo is attached to this notice as an Appendix. The Decision Memo is a public document and is on file electronically via Import Administration's Antidumping and Countervailing Duty Centralized Electronic Service System (“IA ACCESS”). Access to IA ACCESS is available in the Central Records Unit (“CRU”), Main Commerce Building, Room 7046. In addition, a complete version of the Decision Memo can be accessed directly on the Internet at http://www.trade.gov/ia. The paper copy and electronic versions of the Decision Memo are identical in content.

Final Partial Rescission of Review

Pursuant to 19 CFR 351.213(d)(3), the Department preliminarily rescinded the review, in part, with respect to Ningbo Dasheng Hanger Ind. Co., Ltd.; Shangyu Baoxiang Metal Manufactured Co., Ltd.; Shaoxing Andrew Metal Manufactured; Shaoxing Shunji Metal Clotheshorse Co., Ltd.; Shaoxing Gangyuan Metal Manufacture; Shaoxing Tongzhou Metal Manufactured Co., Ltd.; Shaoxing Zhongbao Metal Manufactured Co., Ltd.; ⁵ and Zhejiang Lucky Cloud Hanger Co., Ltd.⁶ Because the Department did not receive any information to the contrary, we continue to find that these companies did not make any shipments during the POR. Thus, for these final results, we are rescinding this review, in part, with respect to the eight above-named companies, in accordance with 19 CFR 351.213(d)(3).

⁵ See Decision Memo at Comment 2.

⁶ See Preliminary Results, 76 FR at 66904.

Changes Since the Preliminary Results

Based on comments received from parties regarding our Preliminary Results, we have made changes to the surrogate financial ratio calculations, the labor surrogate value (“SV”), and the dumping margin calculation for Shanghai Wells in the final results.⁷ We have also corrected an error contained in the Preliminary Results as alleged by Shanghai Wells.⁸

⁷ See Decision Memo at Comments 4 and 5; see also Memorandum to the File, through Catherine Bertrand, Program Manager, Office 9, from Bob Palmer, Case Analyst, Office 9 re: “Second Administrative Review of Steel Wire Garment Hangers from the People's Republic of China: Surrogate Values for the Final Results,” dated concurrently with this notice.

⁸ See Decision Memo at Comments 6; see also Memorandum to the File, through Catherine Bertrand, Program Manager, Office 9, from Bob Palmer, Case Analyst, Office 9 re: “Program Analysis for the Final Results of Antidumping Duty Administrative Review of Steel Wire Garment Hangers from the People's Republic of China: Shanghai Wells Hanger Co., Ltd.,” dated concurrently with this notice.

Scope of the Order

The merchandise subject to the order is steel wire garment hangers, fabricated from carbon steel wire, whether or not galvanized or painted, whether or not coated with latex or epoxy or similar gripping materials, and/or whether or not fashioned with paper covers or capes (with or without printing) and/or nonslip features such as saddles or tubes. These products may also be referred to by a commercial designation, such as shirt, suit, strut, caped, or latex (industrial) hangers. Specifically excluded from the scope of the order are wooden, plastic, and other garment hangers that are not made of steel wire. Also excluded from the scope of the order are chrome-plated steel wire garment hangers with a diameter of 3.4 mm or greater. The products subject to the order are currently classified under U.S. Harmonized Tariff Schedule (“HTSUS”) subheadings 7326.20.0020, 7323.99.9060, and 7323.99.9080.

Although the HTSUS subheadings are provided for convenience and customs purposes, the written description of the merchandise is dispositive.

Separate Rates

In proceedings involving non-market economy (“NME”) countries, it is the Department's practice to begin with a rebuttable presumption that all companies within the country are subject to government control and thus should be assessed a single antidumping duty rate.⁹ In our Preliminary Results, we determined that Shanghai Wells met the criteria for separate rate status.¹⁰ We did not receive any information after the issuance of the Preliminary Results that provides a basis for the reconsideration of our preliminary separate rate determination. Therefore, the Department continues to find that Shanghai Wells meets the criteria for a separate rate.

⁹ See Notice of Final Determination of Sales at Less Than Fair Value, and Affirmative Critical Circumstances, In Part: Certain Lined Paper Products From the People's Republic of China, 71 FR 53079, 53080 (September 8, 2006); and Final Determination of Sales at Less Than Fair Value and Final Partial Affirmative Determination of Critical Circumstances: Diamond Sawblades and Parts Thereof from the People's Republic of China, 71 FR 29303, 29307 (May 22, 2006).

¹⁰ See Preliminary Results, 76 FR at 66906.

Additionally, as stated in the Preliminary Results, because Jiaxing Boyi Medical Device Co. (“Jiaxing Boyi”); Pu Jiang County Command Metal Products Co., Ltd. (“Command Metal Products”); Shaoxing Guochao Metal Products Co., Ltd. (“Guochao Metal Products”); Shaoxing Liangbao Metal Manufactured Co., Ltd. (“Shaoxing Liangbao”); Shaoxing Meideli Metal Hanger Co., Ltd. (“Meideli”); and Yiwu Ao-Si Metal Products Co., Ltd. (“Yiwu”) did not participate in this administrative review, we preliminarily assigned to Jiaxing Boyi, Command Metal Products, Guochao Metal Products, Shaoxing Liangbao, Meideli, and Yiwu total adverse facts available.¹¹ We further stated that, because of their termination of participation from this proceeding, we did not grant these six companies a separate rate and considered them part of the PRC-wide entity.¹² Because we have not received any information after the Preliminary Results that provides a basis for a reconsideration of that finding, we continue to find that these six companies are not eligible for a separate rate for these final results and are part of and subject to the PRC-wide entity rate.¹³

¹¹ See Preliminary Results, 76 FR at 66906-08.

¹² Id.

¹³ See Decision Memo at 3.

PRC-Wide Rate and PRC-Wide Entity

In the Preliminary Results, the Department used the highest rate assigned in any segment of this proceeding (i.e., 187.25 percent) as the PRC-wide rate for the current review.¹⁴ In the Preliminary Results, for purposes of corroboration, the Department found that margin is both reliable and relevant.¹⁵ No information has been presented in the current review that calls into question the reliability of this information and we find it appropriate to continue to apply the PRC-wide rate of 187.25 percent for the final results.¹⁶

¹⁴ See Preliminary Results, 76 FR at 66907, 66908; accord AR 1 Hangers, 76 FR at 27997.

¹⁵ See Preliminary Results, 76 FR at 66307, 66308.

¹⁶ See, e.g., Certain Frozen Warmwater Shrimp from the People's Republic of China: Notice of Final Results and Rescission, In Part, of 2004/2006 Antidumping Duty Administrative and New Shipper Reviews, 72 FR 52049, 52051 (September 12, 2007).

Final Results of Review

The final weighted-average dumping margins for the POR are as follows:

Exporter | Weighted-average margin (%)
Shanghai Wells Hanger Co., Ltd. and/or Hong Kong Wells Limited ¹⁷ | 0.72
PRC-Wide Entity ¹⁸ | 187.25

Assessment

Pursuant to 19 CFR 351.212(b)(1), the Department will determine, and U.S. Customs and Border Protection (“CBP”) shall assess, antidumping duties on all appropriate entries of subject merchandise in accordance with the final results of this review. For assessment purpose, we calculated importer (or customer)-specific assessment rates for merchandise subject to this review. See 19 CFR 351.212(b)(1). Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer (or customer)-specific assessment rate is de minimis (i.e., less than 0.50 percent), the Department will instruct CBP to assess that importer's (or customer's) entries of subject merchandise without regard to antidumping duties, in accordance with 19 CFR 351.106(c)(2). The Department intends to issue assessment instructions to CBP 15 days after the date of publication of these final results of review.

¹⁷ As stated above, Shanghai Wells and HK Wells comprise a single entity. See AR 1 Hangers, 76 FR at 27997 n.10.

¹⁸ The PRC-wide entity includes Jiaxing Boyi Medical Device Co.; Shaoxing Liangbao Metal Manufactured Co., Ltd.; Pu Jiang County Command Metal Products Co., Ltd.; Shaoxing Guochao Metal Products Co., Ltd.; Yiwu Ao-Si Metal Products Co., Ltd.; and Shaoxing Meideli Metal Hanger Co., Ltd.

Cash Deposit Requirements

The following cash deposit requirements will be effective upon publication of the final results of this administrative review for all shipments of the subject merchandise from the PRC entered, or withdrawn from warehouse, for consumption on or after the publication date, as provided for by section 751(a)(2)(C) of the Tariff Act of 1930, as amended (“the Act”): (1) For the exporters listed above, the cash deposit rate will be established by the final results of this review; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate established in the final results of this review (i.e., 187.25 percent); and (4) for all non-PRC exporters of subject merchandise which have not received their own rate, the cash deposit rate will be the rate applicable to the PRC exporters that supplied that non-PRC exporter. These deposit requirements, when imposed, shall remain in effect until further notice.

Disclosure

We will disclose the calculations performed within five days of the date of publication of this notice to parties in this proceeding in accordance with 19 CFR 351.224(b).

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation subject to sanction.

We are issuing and publishing this administrative review and notice in accordance with sections 751(a)(1) and 777(i) of the Act.

Dated: February 23, 2012.
Paul Piquado,
Assistant Secretary for Import Administration.

Appendix I—Decision Memorandum

General Issues

Comment 1: Zeroing

Comment 2: Whether to Rescind the Review with Respect to Zhongbao

Comment 3: Adverse Facts Available for Non-Responsive Companies

Surrogate Values

Comment 4: Selection of Surrogate Financial Statements

Comment 5: Proper Inflator for Labor Surrogate Value

Company-Specific Issue

Comment 6: Correct Importer Name

[FR Doc. 2012-4875 Filed 2-29-12; 8:45 a.m.]

BILLING CODE 3510-DS-P